DEPARTMENT OF VETERANS AFFAIRS

[OMB Control No. 2900-0816]

Agency Information Collection Activity under OMB Review: Board of Veterans' Appeals Voice of the Veteran Appellant Satisfaction Survey

AGENCY: Board of Veterans' Appeals, Department of Veterans Affairs.

ACTION: Notice.

SUMMARY: In compliance with the Paperwork Reduction Act (PRA) of 1995, this notice announces that the Board of Veterans' Appeals, Department of Veterans Affairs, will submit the collection of information abstracted below to the Office of Management and Budget (OMB) for review and comment. The PRA submission describes the nature of the information collection and its expected cost and burden and it includes the actual data collection instrument.

DATES: Comments must be submitted on or before July 31, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0816” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0816” in any correspondence.

SUPPLEMENTARY INFORMATION:

Authority: Public Law 104-13; 44 U.S.C. 3501-3521.

Title: Board of Veterans' Appeals Voice of the Veteran Appellant Satisfaction Survey.

OMB Control Number: 2900-0816.

Type of Review: Extension of a Currently Approved Collection.

Abstract: This notice solicits comments information needed to enable the Board to gauge the effectiveness of the Board's process delivering information and assistance to Veterans and other appellants, as well as assess Veterans' and other appellants' overall level of satisfaction with the Board's appeals process. In addition, the data will be used by the Board to make improvements to the Board's operational processes and service delivery, which in turn, will enable the Board to serve Veterans in the most efficient and effective way possible.

An agency may not conduct or sponsor, and a person is not required to respond to a collection of information unless it displays a currently valid OMB control number. The Federal Register Notice with a 60-day comment period soliciting comments on this collection of information was published at Vol. 82, No. 78, Tuesday, April 25, 2017, page 19140.

Affected Public: Individuals and households.

Estimated Annual Burden: 1,571 hours.

Estimated Average Burden per Respondent: 5 minutes for telephone survey; 12 minutes for eSurvey.

Frequency of Response: One-time.

Estimated Number of Respondents: 14,727 (11,782 for telephone survey; 2,945 for eSurvey).

By direction of the Secretary.
Cynthia Harvey-Pryor,
Agency Clearance Officer, Office of Privacy and Records Management, Department of Veterans Affairs.

[FR Doc. 2017-13730 Filed 6-29-17; 8:45 am]

BILLING CODE 8320-01-P